DEPARTMENT OF DEFENSE

Office of the Secretary

Military Leadership Diversity Commission Meeting

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal Advisory Committee meeting will take place:

1. Name of Committee: Military Leadership Diversity Commission (MLDC).

2. Date: January 13, 2011 through January 14, 2011.

3. Time:

8 a.m. to 4:30 p.m., January 13, 2011.

8 a.m. to 4:30 p.m., January 14, 2011.

4. Location: January 13-14, 2011—The Boars Head, 200 Ednam Drive, Charlottesville, VA 22903.

5. Purpose of the Meeting: The purpose of the meeting is for the commissioners of the Military Leadership Diversity Commission to continue their efforts to address congressional concerns as outlined in the commission charter.

6. Agenda:

January 13, 2011:

8 a.m.-12 p.m.

DFO opens the meeting

Commission Chairman opening remarks

Deliberation of draft final report

12 p.m. DFO recesses the meeting

1 p.m.-4:30 p.m.

DFO opens the meeting

Commission Chairman opening remarks

Deliberation of draft final report

Commission Chairman closing remarks

DFO adjourns the meeting

January 14, 2011:

8 a.m.-12 p.m.

DFO opens the meeting

Commission Chairman opening remarks

Deliberation of draft final report

12 p.m. DFO recesses the meeting

1 p.m.-4:30 p.m.

DFO opens the meeting

Commission Chairman opening remarks

Deliberation of draft final report

Commission Chairman closing remarks

DFO adjourns the meeting

7. Public's Accessibility to the Meeting: Pursuant to 5 U.S.C. 552b and 41 CFR 102-3.140 through 102-3.165, and the availability of space, the meetings on January 12-13, 2011 will be open to the public. Please note that the availability of seating is on a first-come basis.

8. Committee's Designated Federal Officer or Point of Contact: Master Chief Steven A. Hady, Designated Federal Officer, MLDC, at (703) 602-0838 or (571) 882-0140, 1851 South Bell Street, Suite 532, Arlington, VA. E-mail: steven.Hady@wso.whs.mil.

SUPPLEMENTARY INFORMATION: Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for its consideration. Contact information for the Designated Federal Officer can be obtained from the GSA's FACA Database— https://www.fido.gov/facadatabase/public.asp.

Statements being submitted in response to the agenda mentioned in this notice must be received by the Designated Federal Officer at the address listed above at least five calendar days prior to the meeting that is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Due to external factors and contractual difficulties, beyond the control of the Military Leadership Diversity Commission or its Designated Federal Officer, the Government was unable to process the Federal Register notice for the January 13-14, 2011 meeting of the Military Leadership Diversity Commission as required by 41 CFR 102-3.150(a). Accordingly, the Advisory Committee Management Officer for the Department of Defense, pursuant to 41 CFR 102-3.150(b), waives the 15-calendar day notification requirement.

FOR FURTHER INFORMATION CONTACT: Master Chief Steven A. Hady, Designated Federal Officer, MLDC, at (703) 602-0838, 1851 South Bell Street, Suite 532, Arlington, VA. E-mail: steven.Hady@wso.whs.mil.

Dated: December 20, 2010.
Morgan F. Park,
Alternate OSD Federal Register Liaison Officer, Department of Defense.

[FR Doc. 2010-32383 Filed 12-23-10; 8:45 am]

BILLING CODE 5001-06-P